DEPARTMENT OF STATE

[Public Notice 4123]

Determination on Provision of Assistance in Support of the South African Special Protection Unit in Burundi To Help Advance the Burundi Peace Process

Pursuant to the authority vested in me as Secretary of State by the laws and Constitution of the United States, including by section 451 of the Foreign Assistance Act of 1961, as amended, (the “Act”) (22 U.S.C. 2261) and section 1-100 of Executive Order 12163, as amended, I hereby authorize, notwithstanding any other provision of law, the use of up to $5.0 million in FY 2002 Peacekeeping Operations (PKO) funds made available under Chapter 6 of Part II of the Act, in order to provide assistance authorized by Part I of the Act to support the South African Special Protection Unit to help protect returning opposition leaders participating in the Transitional Government inaugurated in Burundi on November 1, 2001.

This Determination shall be reported to Congress promptly and published in the Federal Register.

Dated: September 9, 2002.
Colin L. Powell,
Secretary of State, Department of State.

[FR Doc. 02-23624 Filed 9-16-02; 8:45 am]

BILLING CODE 4710-26-P